DEPARTMENT OF HEALTH AND HUMAN SERVICES

Agency for Healthcare Research and Quality

Agency Information Collection Activities; Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “The Feasibility of Alternative Models for Collecting New Data on Physicians and Their Practices.” In accordance with the Paperwork Reduction Act, 44 U.S.C. 3501-3521, AHRQ invites the public to comment on this proposed information collection.

DATES: Comments on this notice must be received by June 14, 2013.

ADDRESSES: Written comments should be submitted to: Doris Lefkowitz, Reports Clearance Officer, AHRQ, by email at doris.lefkowitz@AHRQ.hhs.gov.

Copies of the proposed collection plans, data collection instruments, and specific details on the estimated burden can be obtained from the AHRQ Reports Clearance Officer.

FOR FURTHER INFORMATION CONTACT: Doris Lefkowitz, AHRQ Reports Clearance Officer, (301) 427-1477, or by email at doris.lefkowitz@AHRQ.hhs.gov.

SUPPLEMENTARY INFORMATION:

Proposed Project

The Feasibility of Alternative Models for Collecting New Data on Physicians and Their Practices Physicians play a vital role in the American health care system. Physicians, and other providers in their practices, provide direct medical care, and they also refer patients for many other medical services. Directly or indirectly, therefore, physician activities can have an important impact on healthcare access, quality, and cost. Given their key role, accurate and timely longitudinal information about physicians is essential to understanding the functioning of the health care system, identifying best practices and potential efficiencies, and assessing the impact of programmatic and policy reforms, including the development of new organizational forms relevant to physician practices (e.g., accountable care organizations).

At present, however, no comprehensive longitudinal data collection effort addresses all levels of the current complexity of physician practices and, most importantly, the larger organizational context of their decision making. This has limited the ability of researchers to monitor and predict the behavior of health care providers; assess or anticipate the likely impact of proposed policy changes; understand geographic variations in the provision, cost, and quality of health care services; assess health care provider availability and labor resource issues; and provide timely information and analyses about such issues to public policymakers and private sector decision makers and managers.

The Agency for Healthcare Research and Quality (AHRQ), policymakers, researchers who directly inform policymakers, and Federal and other stakeholders, all working together, have identified a clear need for an ongoing, regular way to collect new data in order to provide a comprehensive picture of physicians, their immediate practice sites, and the larger organizational and market contexts in which individual practices sit. The long term aims are to track, monitor, and analyze how physicians are responding to: (1) Ongoing health reform initiatives (both Federal and State) and (2) associated market and technological changes. AHRQ has developed survey instruments (questions) and, with this project, will test the feasibility of extracting this new policy relevant information from a random sample of physicians and their practices. The questionnaire development was based on an extensive environmental scan which reviewed all surveys of physicians conducted over the last decade and through discussions with our technical expert panel and stakeholders, in order to avoid duplication with other efforts and to build on and use other efforts in strategically productive ways.

This research seeks to add to the knowledge available from current surveys in two important ways. First, we are testing the addition of questions for all physicians specialties, including radiology, anesthesiology, and pathology which are currently excluded from other surveys. Second, this effort includes an innovative experiment to obtain information about the organization within which the sampled physician practices. Many of the changes taking place in the health care market are occurring at the organizational level. Physicians may or may not be the most reliable respondent for questions about organizational changes that do not directly affect the physician-patient interaction. However, organizational information is vitally important for assessing the changing health care system. This project aims to fill that gap by providing data on optimal methods for collecting organizational information. For example, the data collection effort involves experimental solicitation of information from the physician, a designated manager, or both. Other experiments involve variation in how particular questions might be asked.

This data collection will enable AHRQ and the Department to pretest new physician questions and new physician practice questions, so that future acquisitions of such information—whether in a new survey or an expansion of an existing federal survey—rest on empirical analyses derived from a real-world fielding of the questions.

This study is being conducted by AHRQ through its contractor, Mathematica Policy Research, pursuant to AHRQ's statutory authority to conduct and support research on health care and systems for the delivery of such care, including activities with respect to the quality, effectiveness, efficiency, appropriateness, and value of health care services, clinical practice, and health statistics and surveys (42 U.S.C. 299a(a)(1), (4), and (8)).

Estimated Annual Respondent Burden

Exhibit 1 shows the estimated annual burden hours for each respondent's participation time in this research project. The physician questionnaire will be completed by 1,750 physicians and takes 20 minutes to complete. The practice questionnaire will be completed by 334 practice administrators and 333 physicians (667 total) and takes 10 minutes to complete. The total annual burden is estimated to be 694 hours.

Exhibit 2 shows the estimated annual cost burden associated with the respondents' time to participate in this research. The total annual cost burden is estimated to be $63,725.

Exhibit 1—Estimated Annualized Burden Hours
Form name | Number of respondents | Number of responses per respondent | Hours per response | Total burden hours
Physician Questionnaire | 1,750 | 1 | 20/60 | 583
Practice Organization Questionnaire | 667 | 1 | 10/60 | 111
Total | 2,417 | na | na | 694

Exhibit 2—Estimated Annualized Cost Burden
Form name | Number of respondents | Total burden hours | Average hourly wage rate* | Total cost burden
Physician Questionnaire | 1750 | 583 | $95.79 ᵃ | $55,846
Practice Organization Questionnaire | 667 | 111 | 70.98 ᵇ | 7,879
Total | 2,417 | 694 | na | 63,725
* National Compensation Survey: Occupational wages in the United States May 2011, “U.S. Department of Labor, Bureau of Labor Statistics.”
ᵃ Based on the mean wages for Pediatricians, General (29-1065); Family and General Practitioners (29-1062); Internists, General (29-1063); Psychiatrists (29-1066); Anesthesiologists (29-1061); Surgeons (29-1067); Obstetricians and Gynecologists (29-1064); and Physicians & Surgeons, All Other (29-1069)
ᵇ Based on the mean wages for 334 Medical and Health Services Managers (11-9111) and 333 physicians (as defined above).

Request for Comments

In accordance with the Paperwork Reduction Act, comments on AHRQ's information collection are requested with regard to any of the following: (a) Whether the proposed collection of information is necessary for the proper performance of AHRQ health care research and health care information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology. Comments submitted in response to this notice will be summarized and included in the Agency's subsequent request for OMB approval of the proposed information collection. All comments will become a matter of public record.

Dated: March 12, 2013.
Carolyn M. Clancy,
Director.

[FR Doc. 2013-08409 Filed 4-12-13; 8:45 am]

BILLING CODE 4160-90-M